DEPARTMENT OF HEALTH AND HUMAN SERVICES

Centers for Disease Control and Prevention

[Program Announcement 05050]

A Cooperative Agreement to Strengthen Collaboration Between the Disciplines of Academic Medicine and Public Health; Notice of Intent to Fund Single Eligibility Award

A. Purpose

The Centers for Disease Control and Prevention (CDC) announces the intent to fund fiscal year (FY) 2005 funds for a cooperative agreement program to: (1) Strengthen the quality of medical education and training; (2) improve the nation's health by strengthening the collaborations between the disciplines of academic medicine and public health; (3) enhance the search for biomedical knowledge; and (4) integrate education into the provision of effective health care.

B. Eligible Applicant

Assistance will be provided only to the Association of American Medical Colleges (AAMC). AAMC is the appropriate and only qualified organization to address the activities described under this announcement.

AAMC is the only non-profit association that represents all 125 accredited medical schools in the United States and 17 accredited medical schools in Canada. These medical schools are accredited by the Liaison Committee on Medical Education and represent the primary educational system that provides the Nation's physicians with their undergraduate and medical education. In addition, AAMC represents 400 major teaching hospitals, including more than 70 Veterans Affairs medical centers, 96 academic and scientific societies (representing 105,000 faculty constituents), the nation's 66,000 medical students, and 97,000 residents.

C. Funding

Approximately $14,000,000 is available in FY 2005 to fund this award. It is expected that the award will begin on or before September 30, 2005, and will be made for a 12-month budget period within a project period of up to 5 years. Funding estimates may change.

D. Where To Obtain Additional Information

For general comments or questions about this announcement, contact: Technical Information Management, CDC Procurement and Grants Office, 2920 Brandywine Road, Atlanta, GA 30341-4146, Telephone: 770-488-2700.

For technical questions about this program, contact: John (Jack) Rogers, Technical Review Administrator, The Coordinating Center for Health Information and Services (CoChis), 4770 Buford Highway, Mailstop K38, Atlanta, GA 30341, Telephone: 770-488-2516, E-mail: JJRogers@cdc.gov.

Dated: January 28, 2005.
William P. Nichols,
Director, Procurement and Grants Office, Centers for Disease Control and Prevention.

[FR Doc. 05-2042 Filed 2-2-05; 8:45 am]

BILLING CODE 4163-18-P